SECURITIES AND EXCHANGE COMMISSION

[Release No. 34-95588]

Draft 2022-2026 Strategic Plan for Securities and Exchange Commission

AGENCY: Securities and Exchange Commission.

ACTION: Request for comment.

SUMMARY: The Securities and Exchange Commission (SEC) is providing notice that it is seeking comments on its draft 2022-2026 Strategic Plan. The draft Strategic Plan includes a draft of the SEC's mission, vision, values, strategic goals, and planned initiatives.

DATES: Comments should be received on or before September 29, 2022.

ADDRESSES: Comments may be submitted by any of the following methods:

Electronic Comments

• Use the SEC's internet comment forms (https://www.sec.gov/regulatory-actions/how-to-submit-comments); or

• Send an email to rule-comments@sec.gov. Please include Draft Strategic Plan 2022-2026 on the subject line; or

Paper Comments

• Send paper comments to Vanessa A. Countryman, Secretary, Securities and Exchange Commission, 100 F Street NE, Washington, DC 20549-1090.

All submissions should refer to Draft Strategic Plan 2022-2026. This should be included on the subject line if email is used. To help the Commission process and review your comments more efficiently, please use only one method of submission. The Commission will post all comments on the Commission's website (https://www.sec.gov/rules/other.htm). Comments also are available for website viewing and printing in the Commission's Public Reference Room, 100 F Street NE, Washington, DC 20549, on official business days between the hours of 10 a.m. and 3 p.m. Operating conditions may limit access to the Commission's Public Reference Room. All comments received will be posted without change. Persons submitting comments are cautioned that we do not redact or edit personal identifying information from comment submissions. You should submit only information that you wish to make available publicly.

FOR FURTHER INFORMATION CONTACT: Peter Gimbrere, Senior Advisor, Office of the Chief Operating Officer, at (202) 551-4628, Securities and Exchange Commission, 100 F Street NE, Washington, DC 20549-2521.

SUPPLEMENTARY INFORMATION: The draft strategic plan is available at the Commission's website at https://www.sec.gov/files/sec_strategic_plan_fy22-fy26_draft.pdf or by contacting Peter Gimbrere, Senior Advisor, Office of the Chief Operating Officer, at (202) 551-4628, Securities and Exchange Commission, 100 F Street NE, Washington, DC 20549-2521.

By the Commission.
Dated: August 24, 2022.
Vanessa A. Countryman,
Secretary.

[FR Doc. 2022-18582 Filed 8-29-22; 8:45 am]

BILLING CODE 8011-01-P